SOCIAL SECURITY ADMINISTRATION

[Docket No. SSA-2011-0035]

Agency Self-Evaluation Under Section 504 of the Rehabilitation Act of 1973; Public Forums on Accessibility for Individuals With Disabilities; Extension of Comment Period

AGENCY: Social Security Administration.

ACTION: Notice of extension of comment period.

SUMMARY: On August 2, 2011, we announced in the Federal Register that we were soliciting oral and written comments at two Section 504 Self-Evaluation Forums. We stated that the deadline for written comments was October 31, 2011. We are extending the written comment deadline by 15 days to match the date we publicly announced at the August forum.

Deadline for Comments: To ensure that your written comments are considered, we must receive them no later than November 15, 2011.

Written Comments: If you are not available to participate real-time in the public forums, we encourage you to submit written comments by Internet, fax, or mail. If you submitted oral comments at a public forum, you may also submit additional comments in writing. In your submission, please state that your comments refer to Docket No. SSA-2011-0035 so that we may associate your comments with the correct document.

Caution: You should be careful to include in your comments only information that you wish to make publicly available. We strongly urge you not to include in your comments any personal information, such as Social Security numbers or medical information.

• Internet: We strongly recommend that you submit your comments via the Internet. Please visit the Federal eRulemaking portal at http://www.regulations.gov. Use the Search function to find docket number SSA-2011-0035. The system will issue a tracking number to confirm your submission. You will not be able to view your comment immediately because we must post each comment manually. It may take up to a week for your comment to be viewable.

• Fax: Fax comments to (410) 966-2830.

• Mail: Address your comments to the Office of Regulations, Social Security Administration, 107 Altmeyer Building, 6401 Security Boulevard, Baltimore, Maryland 21235-6401. Comments are available for public viewing on the Federal eRulemaking portal at http://www.regulations.gov or in person, during regular business hours, by arranging with the contact person identified below.

FOR FURTHER INFORMATION CONTACT: Mariangela Rosa, Social Security Administration, 6401 Security Boulevard, Baltimore, MD 21235-6401, 1-877-794-7395 or e-mail SSA.504@ssa.gov. For information on eligibility or filing for benefits, call our national toll-free number, 1-800-772-1213 or TTY 1-800-325-0778, or visit our Internet site, Social Security Online, at http://www.socialsecurity.gov.

Dated: October 17, 2011.
Michael J. Astrue,
Commissioner of Social Security

[FR Doc. 2011-27353 Filed 10-21-11; 8:45 am]

BILLING CODE 4191-02-P